DEPARTMENT OF AGRICULTURE

Forest Service

Notice of Resource Advisory Committee Meeting

AGENCY: Southwest Idaho Resource Advisory Committee, Cascade, ID Forest Service, USDA.

ACTION: Notice of meeting.

SUMMARY: Pursuant to the authorities in the Federal Advisory Committee Act (Pub. L. 92-463) and under the Secure Rural Schools and Community Self-Determination Act of 2000 (Pub. L. 106-393) the Boise and Payette National Forests' Southwest Idaho Resource Advisory Committee will meet Thursday, July 25, 2002 in Cascade, Idaho for a business meeting. The meeting is open to the public.

FOR FURTHER INFORMATION CONTACT: Randy Swick, McCall District Ranger and Designated Federal Officer, at (208) 634-0400.

SUPPLEMENTARY INFORMATION: The business meeting on July 25th, begins at 10:30 a.m., at the American Legion Hall, Cascade, Idaho. Agenda topics will include review and approval of project proposals, and an open public forum.

Dated: July 1, 2002.
Mark J. Madrid,
Forest Supervisor, Payette National Forest.

[FR Doc. 02-17220 Filed 7-9-02; 8:45 am]

BILLING CODE 3410-11-M